DEPARTMENT OF LABOR

Occupational Safety and Health Administration

[Docket No. OSHA-2014-0001]

National Advisory Committee on Occupational Safety and Health (NACOSH); Charter Renewal

AGENCY: Occupational Safety and Health Administration (OSHA), Labor.

ACTION: Renewal of the NACOSH charter.

SUMMARY: The Secretary of Labor (Secretary) has renewed the NACOSH charter for two years.

FOR FURTHER INFORMATION CONTACT: Ms. Michelle Walker, OSHA Directorate of Technical Support and Emergency Management, Occupational Safety and Health Administration, Room N-2625, U.S. Department of Labor, 200 Constitution Avenue NW., Washington, DC 20210; telephone (202) 693-2350 (TTY (877) 889-5627); email walker.michelle@dol.gov.

SUPPLEMENTARY INFORMATION: The Secretary has renewed the NACOSH charter for two years until October 7, 2016.

NACOSH was established by Section 7(a) of the Occupational Safety and Health Act of 1970 (OSH Act) (29 U.S.C. 651, 656) to advise, consult with and make recommendations to the Secretary and the Secretary of Health and Human Services on matters relating to the administration of the OSH Act. NACOSH is a continuing advisory committee of indefinite duration.

NACOSH operates in accordance with the Federal Advisory Committee Act (FACA) (5 U.S.C. App. 2), its implementing regulations (41 CFR part 102-3), and OSHA's regulations on NACOSH (29 CFR part 1912a). Pursuant to FACA (5 U.S.C. App. 2, § 14(b)(2)), the NACOSH charter must be renewed every two years.

The new charter establishes uniform term expiration dates for NACOSH members, with all terms expiring at the end of a given calendar year. In addition, the charter decreases the costs and staff years (1.5 years down from 2 years) for operating NACOSH.

The new NACOSH charter is available to read or download at http://www.regulations.gov (Docket No. OSHA-2014-0001), the federal eRulemaking portal. The charter also is available on the NACOSH page on OSHA's Web page at http://www.osha.gov and at the OSHA Docket Office, N-2625, U.S. Department of Labor, 200 Constitution Avenue NW., Washington, DC 20210; telephone (202) 693-2350. In addition, the charter is available for viewing or download at the Federal Advisory Committees Database at http://www.fido.gov.

Authority and Signature

David Michaels, Ph.D., MPH, Assistant Secretary of Labor for Occupational Safety and Health, directed the preparation of this notice under the authority granted by 29 U.S.C. 656; 5 U.S.C. App. 2; 29 CFR Part 1912a; 41 CFR part 102-3; and Secretary of Labor's Order No. 1-2012 (77 FR 3912 (1/25/2012)).

Signed at Washington, DC, on October 17, 2014.
David Michaels,
Assistant Secretary of Labor for Occupational Safety and Health.

[FR Doc. 2014-25145 Filed 10-21-14; 8:45 am]

BILLING CODE 4510-26-P